DEPARTMENT OF JUSTICE

Federal Bureau of Investigation

Notice of Charter Renewal

In accordance with the provisions of the Federal Advisory Committee Act title 5, United States Code, Appendix, and Title 41, Code of Federal Regulations, Section 101-6.1015, with the concurrence of the Attorney General, I have determined that the continuance of the Criminal Justice Information Services (CJIS) Advisory Policy Board (APB) is in the public interest. In connection with the performance of duties imposed upon the FBI by law, I hereby give notice of the renewal of the APB Charter, effective January 31, 2005.

The APB provides me with general policy recommendations with respect to the philosophy, concept, and operational principles of the various criminal justice information systems managed by the FBI's CJIS Division.

The APB includes representatives from state and local criminal justice agencies; members of the judicial, prosecutorial, and correctional segments of the criminal justice community; a representative of federal agencies participating in the CJIS systems; and representatives of criminal justice professional associations (i.e., the American Probation and Parole Association, American Society of Crime Laboratory Directors, International Association of Chiefs of Police, National District Attorneys Association, National Sheriffs' Association, Major Cities Chiefs Association, Major County Sheriffs' Association, and a representative from a national professional association representing the courts or court administrators nominated by the Conference of Chief Justices). All members of the APB are appointed by the FBI Director.

The APB functions solely as an advisory body in compliance with the provisions of the Federal Advisory Committee Act. The Charter has been filed in accordance with the provisions of the Act.

Dated: March 21, 2005.
Robert S. Mueller, III,
Director.

[FR Doc. 05-6440 Filed 3-31-05; 8:45 am]

BILLING CODE 4410-02-M